DEPARTMENT OF LABOR

Employment and Training Administration

[TA-W-55,108]

Cosom Sporting Goods, Inc., Thorofare, NJ; Notice of Affirmative Determination Regarding Application for Reconsideration

By letter of July 28, 2004, a petitioner requested administrative reconsideration of the Department of Labor's Notice of Negative Determination Regarding Eligibility to Apply for Worker Adjustment Assistance, applicable to workers of the subject firm. The determination was signed on July 15, 2004. The Department's Notice was published in the Federal Register on August 3, 2004 (69 FR 46575).

The Department reviewed the request for reconsideration and has determined that the petitioner has provided additional information. The Department will conduct further investigation to determine whether the workers are eligible to apply for TAA.

Conclusion

After careful review of the application, I conclude that the claim is of sufficient weight to justify reconsideration of the Department of Labor's prior decision. The application is, therefore, granted.

Signed in Washington, DC, this 25th day of August, 2004.
Elliott S. Kushner,
Certifying Officer, Division of Trade Adjustment Assistance.

[FR Doc. E4-2097 Filed 9-7-04; 8:45 am]

BILLING CODE 4510-30-P